DEPARTMENT OF COMMERCE

National Oceanic and Atmospheric Administration

RIN 0648-XL59

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 2-day Atlantic Highly Migratory Species (HMS) Advisory Panel (AP) meeting in February 2009. The intent of the meeting is to consider options for the conservation and management of Atlantic HMS. The meeting is open to the public.

DATES: The AP meeting will be held from 1 p.m. to 5 p.m. on Wednesday, February 18, 2009, and from 8 a.m. to 5 p.m. on Thursday, February 19, 2009.

ADDRESSES: The meeting will be held in Silver Spring, MD. At this time the address is unknown, but will be provided on the internet at www.nmfs.noaa.gov/sfa/hms/ when available. The address will not be published in the Federal Register.

FOR FURTHER INFORMATION CONTACT: Othel Freeman or Chris Rilling at 301-713-2347.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) for HMS. NMFS consults with and considers the comments and views of AP members when preparing and implementing FMPs or FMP amendments for Atlantic tunas, swordfish, billfish, and sharks. The AP has previously consulted with NMFS on: Amendment 1 to the Billfish FMP (April 1999), the HMS FMP (April 1999), Amendment 1 to the HMS FMP (December 2003), the Consolidated HMS FMP (October 2006), and Amendments 1 and 2 to the Consolidated HMS FMP (April and October 2008). The February 2009 AP meeting will focus on conservation and management options for Atlantic tunas and sharks. NMFS is considering an amendment to the 2006 Consolidated HMS FMP for small coastal sharks to rebuild blacknose sharks which are overfished with overfishing occurring, and will consider management options for Atlantic bluefin tuna based on any potential management recommendations resulting from the 2008 International Commission for the Conservation of Atlantic Tunas (ICCAT) meeting.

Special Accommodations

This meeting is physically accessible to people with disabilities. Requests for sign language interpretation or other auxiliary aids should be directed to Othel Freeman at (301) 713-2347, at least 7 days prior to the meeting.

Dated: November 5, 2008.
Emily H. Menashes,
Acting Director, Office of Sustainable Fisheries, National Marine Fisheries Service.

[FR Doc. E8-26854 Filed 11-12-08; 8:45 am]

BILLING CODE 3510-22-S